DEPARTMENT OF VETERANS AFFAIRS

Poverty Threshold

AGENCY: Department of Veterans Affairs.

ACTION: Notice.

SUMMARY: The Department of Veterans Affairs (VA) hereby gives notice of the weighted average poverty threshold established for 2002 for one person (unrelated individual) as established by the Bureau of the Census. The amount is $9,183.

DATES: For VA determinations, the 2002 poverty threshold is effective October 14, 2003, the date on which it was established by the Bureau of the Census.

FOR FURTHER INFORMATION CONTACT: Paul Trowbridge, Consultant, Compensation and Pension Service, Veterans Benefits Administration, Department of Veterans Affairs, 810 Vermont Avenue, NW., Washington, DC 20420, (202) 273-7218.

SUPPLEMENTARY INFORMATION: We published a final rule amending 38 CFR 4.16(a) in the Federal Register of August 3, 1990, 55 FR 31579. The amendment provided that marginal employment generally shall be deemed to exist when a veteran's earned annual income does not exceed the amount established by the Bureau of the Census as the poverty threshold for one person. The provisions of 38 CFR 4.16(a) use the poverty threshold as a standard in defining marginal employment when considering total disability ratings for compensation based on unemployability of an individual. We stated we would publish subsequent poverty threshold figures as notices in the Federal Register.

The Bureau of the Census recently published the weighted average poverty thresholds for 2002. The threshold for one person (unrelated individual) is $9,183.

Dated: November 19, 2003.
Anthony J. Principi,
Secretary of Veterans Affairs.

[FR Doc. 03-29460 Filed 11-25-03; 8:45 am]

BILLING CODE 8320-01-P